NATIONAL SCIENCE FOUNDATION

Agency Information Collection Activities: Comment Request

AGENCY: National Science Foundation.

ACTION: Submission for OMB Review; Comment Request.

SUMMARY: The National Science Foundation (NSF) has submitted the following information collection requirement to OMB for review and clearance under the Paperwork Reduction Act of 1995, Public Law 104-13. This is the second notice for public comment; the first was published in the Federal Register at 77 FR 30330, and three comments were received. NSF is forwarding the proposed renewal submission to the Office of Management and Budget (OMB) for clearance simultaneously with the publication of this second notice. The full submission may be found at: http://www.reginfo.gov/public/do/PRAMain.

Comments regarding (a) Whether the collection of information is necessary for the proper performance of the functions of the agency, including whether the information will have practical utility; (b) the accuracy of the agency's estimate of burden including the validity of the methodology and assumptions used; (c) ways to enhance the quality, utility and clarity of the information to be collected; or (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne H. Plimpton, Reports Clearance Officer, National Science Foundation, 4201 Wilson Boulevard, Suite 295, Arlington, Virginia 22230 or send email to splimpto@nsf.gov. Comments regarding this information collection are best assured of having their full effect if received within 30 days of this notification. Copies of the submission(s) may be obtained by calling 703-292-7556.

FOR FURTHER INFORMATION CONTACT: Suzanne H. Plimpton at (703) 292-7556 or send email to splimpto@nsf.gov. Individuals who use a telecommunications device for the deaf (TDD) may call the Federal Information Relay Service (FIRS) at 1-800-877-8339 between 8 a.m. and 8 p.m., Eastern time, Monday through Friday.

NSF may not conduct or sponsor a collection of information unless the collection of information displays a currently valid OMB control number and the agency informs potential persons who are to respond to the collection of information that such persons are not required to respond to the collection of information unless it displays a currently valid OMB control number.

The following are the comments, and associated responses, resulting from the May 20, 2012 Federal Register notice (77 FR 30330):

Comment: One institutional Financial Official (FO) questioned why it was the responsibility of the FO to submit the Completion Report and not the responsibility of the Coordinating Official (CO). The FO was concerned that the information gathered by them may not be accurate.

Response: The CO and FO will have access to the same Completion Report module. The CO and FO can add information to the Completion Report, but only the FO can submit the Completion Report which is tied to the Annual Report. The CO can assist the FO in obtaining accurate information regarding the entries to the Completion Report. The module has a General Comments section in which the CO can communicate with the FO regarding the Completion Report update, as well as alerting the FO of when the report is ready for their submission. The FO will certify the information, electronically sign and date the report, and submit the report.

Comment: One institutional CO requested clarification of the “current degree status”. Did it mean type of degree (i.e. MS or Ph.D.), or years remaining until conferral of degree, or something else. The CO stated that knowledge of the specific information requested by NSF is necessary in order for them to obtain the needed personnel to perform the work, as that institution has a significant number of Fellows.

Response: The Completion Report menu will have four columns to populate, (1.) Degree Status, (2.) Graduate Program Start Date, (3.) Degree Sought, and (4.) Graduation Date. The Degree Status will have four pull-down choices- In Progress, Graduated, Transferred, or Withdrawn. The Graduate Program Start Date will require a month and a year. The Degree Sought will be pre-populated from the Degree Sought field of the Fellow's Annual Activity Report. The Graduation Date is required only if the Fellow's degree status is marked as “Graduated”.

Comment: One institutional CO asked how to report Fellows who are on an approved leave (medical or military deferral), as “In Progress” does not fit their situation.

Response: All Fellows within the Fellowship Period will be defined as In Progress in the Completion Report. The Fellowship Period is a five-year Fellowship Period which includes three Tenure Years of Financial Support (Stipend and institutional Cost-of-Education Allowance) and two Reserve Years. In addition, Forfeit, Medical Deferral, or Military Deferral are included in the Fellowship Period.

SUPPLEMENTARY INFORMATION:

Title of Collection: Grantee Reporting Requirements for the Graduate Research Fellowship Program.

OMB Control No.: 3145-NEW.

Abstract: The purpose of the NSF Graduate Research Fellowship Program is to help ensure the vitality and diversity of the scientific and engineering workforce in the United States. The program recognizes and supports outstanding graduate students who are pursuing research-based master's and doctoral degrees in fields within NSF's mission. The GRFP provides three years of support, to be used during a five-year fellowship period, for the graduate education of individuals who have demonstrated their potential for significant achievements in science and engineering research.

The Graduate Research Fellowship Program uses several sources of information in assessing and documenting program performance and impact. These sources include reports from program evaluation, the GRFP Committee of Visitors, and data compiled from the applications. In addition, GRFP Fellows submit annual activity reports to NSF.

The GRFP Completion report is proposed as a new component of the annual reporting submitted by each GRFP institution to NSF. The Completion Report and the existing Program Expense Report will comprise the GRFP Annual Report. GRFP institutions will certify the current status of all GRFP Fellows at the institution. The current status will be reported as either In Progress, Graduated, Transferred, or Withdrawn. For Graduate Fellows with Graduated status, the graduation date is a required reporting element. Collection of this information will allow the program to obtain information on the current status of Fellows, the number and/or percentage of Graduate Fellowship recipients who complete a science or engineering graduate degree, and an estimate of time to degree completion. The report must be certified and submitted by the institution's designated Financial Official (FO) annually.

Use of the Information: The completion report data will provide the GRFP with accurate Fellow information regarding their completion of their graduate programs. The data will be used by NSF in its assessment of the impact of its investments in the GRFP, and will inform its program management.

Respondents: Academic institutions with GRFP Fellows.

Estimated Number of Annual Respondents: One from each of the 228 current GRFP institutions.

Burden on the Public: Overall average time will be 15 minutes per Fellow (6886 Fellows) for a total of 1722 hours for all institutions with Fellows. An estimate for institutions with 12 or fewer Fellows will be 1 hour, institutions with 12-48 fellows will be 4 hours, and institutions over 48 Fellows will be 10 hours.

Dated: August 10, 2012.
Suzanne H. Plimpton,
Reports Clearance Officer, National Science Foundation.

[FR Doc. 2012-20060 Filed 8-14-12; 8:45 am]

BILLING CODE 7555-01-P